DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Healthy Start Evaluation and Quality Improvement OMB No. 0915-0338—Revision.

Abstract: The National Healthy Start Program, funded through the Health Resources and Services Administration's (HRSA) Maternal and Child Health Bureau (MCHB), has the goal of reducing disparities in infant mortality and adverse perinatal outcomes. The program began as a demonstration project with 15 grantees in 1991 and has expanded over the past two decades to 105 grantees serving 196 communities across 39 states. Healthy Start grantees operate in communities with rates of infant mortality at least 1½ times the U.S. national average and high rates for other adverse perinatal outcomes. These communities are geographically, racially, ethnically, and linguistically diverse low-income areas. Healthy Start covers services during the perinatal period (before, during, after pregnancy) and follows the woman and infant through 2 years after the end of the pregnancy. The next round of funding represents a transformation of the program framework from nine service and systems core components to five approaches. The five approaches are as follows: (1) Improving women's health; (2) promoting quality services; (3) strengthening family resilience; (4) achieving collective impact; and (5) increasing accountability through quality improvement, performance monitoring, and evaluation.

MCHB seeks to conduct a mixed-methods evaluation to assess the effectiveness of the program on individual, organizational, and community-level outcomes. Data collection instruments will include a Women, Children, and Families Information Form; Healthy Start Grantee Web Survey; Community Action Network (CAN) Web Survey; Healthy Start Site Visit Protocol; and Healthy Start Participant Focus Group Protocol.

Need and Proposed Use of the Information: The purpose of the data collection instruments will be to obtain consistent information across all grantees about Healthy Start and its outcomes and in-depth information for 15 Healthy Start communities and 15 comparison communities to support a rigorous evaluation design. The data will be used to: (1) Provide credible and rigorous evidence of program effect on outcomes; (2) assess the relative contribution of the five program approaches to individual and community-level outcomes; (3) meet program needs for accountability, programmatic decision-making, and ongoing quality improvement; and (4) strengthen the evidence-base, and identify best and promising practices for the program to support sustainability, replication, and dissemination of the program.

Likely Respondents: Respondents include pregnant women and women of reproductive age who are served by the Healthy Start program for the Women, Children, and Families Information Form; project directors and staff for the Healthy Start Grantee Web Survey; representatives from partner organizations for the Community Action Network (CAN) Web Survey; program staff, providers, and partners for the Healthy Start Site Visit Protocol; and program participants for the Healthy Start Participant Focus Group Protocol.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden-Hours
Form name | Number of respondents | Number of responses per respondent | Total responses | Average burden per response (in hours) | Total burden hours
Women, Children, and Families Information Form | 41,050 | 1 | 41,050 | 0.50 | 20,525
Healthy Start Grantee Web Survey | 105 | 1 | 105 | 4.00 | 420
CAN Member Web Survey | 600 | 1 | 600 | 0.75 | 450
Healthy Start Site Visit Protocol | 15 | 1 | 15 | 6.00 | 90
Healthy Start Participant Focus Group Protocol | 180 | 1 | 180 | 1.00 | 180
Total | 41,950 |  | 41,950 |  | 21,665

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: January 22, 2014.
Jackie Painter,
Deputy Director, Division of Policy and Information Coordination.

[FR Doc. 2014-01564 Filed 1-27-14; 8:45 am]

BILLING CODE 4165-15-P